DEPARTMENT OF HEALTH AND HUMAN SERVICES

Centers for Medicare & Medicaid Services

[CMS-5505-N2]

Medicare Program; Announcement of a New Application Deadline for the Advance Payment Model

AGENCY: Centers for Medicare & Medicaid Services (CMS), HHS.

ACTION: Notice.

SUMMARY: This notice announces a new application deadline for participation in the Advance Payment Model for certain accountable care organizations participating in the Medicare Shared Savings Program scheduled to begin in 2012.

DATES: Application Submission Deadlines for the Advance Payment Model: Applications for the performance period beginning on April 1, 2012 will be accepted from January 3, 2012 through February 1, 2012.

The period during which applications will be accepted for the performance period beginning on July 1, 2012 will remain identical to the period for the Medicare Shared Savings Program. More information is available on the Advance Payment Model Web site at http://www.innovations.cms.gov/initiatives/aco/advance-payment/index.html.

FOR FURTHER INFORMATION CONTACT: Dan Farmer, (410) 786-5497.

SUPPLEMENTARY INFORMATION:

I. Background

The Centers for Medicare & Medicaid Services (CMS) is committed to achieving the three-part aim of better health for populations, better health care for individuals, and lower growth in expenditures through continuous improvement for Medicare, Medicaid, and Children's Health Insurance Program (CHIP) beneficiaries. One potential mechanism for achieving this goal is for CMS to partner with groups of health care providers of services and suppliers that have a mechanism for shared governance and have formed an Accountable Care Organization (ACO) through which they work together to coordinate care for a specified group of patients. We will pursue such partnerships through complementary efforts, including the Medicare Shared Savings Program and initiatives undertaken by the Center for Medicare and Medicaid Innovation (Innovation Center).

The Advance Payment Model is an Innovation Center initiative designed for participants in the Medicare Shared Savings Program in need of prepayment of expected shared savings to build their capacity to provide high quality, coordinated care and generate cost savings. The Advance Payment Model will test whether and how pre-paying a portion of future shared savings could increase participation in the Medicare Shared Savings Program, and whether advance payments will enhance the ability of ACOs to effectively coordinate care and generate Medicare savings, as well as the speed at which they attain that goal.

In the November 2, 2011 Federal Register (76 FR 68012), we published a notice announcing the Advance Payment Model. Additional information about the Advance Payment Model is available on the Advance Payment Model Web site at http://www.innovations.cms.gov/initiatives/aco/advance-payment/index.html.

II. Provisions of the Notice

This notice announces a new deadline for applications to the Advance Payment Model for the performance period beginning April 1, 2012. We will accept applications to the Advance Payment Model from January 3, 2012 through February 1, 2012. The period during which applications will be accepted for the performance period beginning on July 1, 2012 will remain identical to the period for the Medicare Shared Savings Program.

Organizations interested in applying to the Advance Payment Model must also complete an application for the Shared Savings Program. This modified deadline will provide organizations interested in the Advance Payment Model with more time to complete the additional application needed for the Advance Payment Model. Information about the application process and deadlines for the Shared Savings Program is available at http://www.cms.gov/sharedsavingsprogram.

Additional information about the application process for the Advance Payment Model is available on the Advance Payment Model Web site at http://www.innovations.cms.gov/initiatives/aco/advance-payment/index.html.

Authority: Section 1115A of the Social Security Act.

Dated: November 23, 2011.
Donald M. Berwick,
Administrator, Centers for Medicare & Medicaid Services.

[FR Doc. 2011-30845 Filed 11-29-11; 8:45 am]

BILLING CODE 4120-01-P